DEPARTMENT OF COMMERCE

International Trade Administration

[A-570-945]

Prestressed Concrete Steel Wire Strand From the People's Republic of China: Final Results of Expedited Sunset Review of the Antidumping Duty Order

AGENCY: Enforcement and Compliance, International Trade Administration, Department of Commerce.

SUMMARY: On May 1, 2015, the Department of Commerce (the “Department”) initiated the first five-year (“sunset”) review of the antidumping duty order on prestressed concrete steel wire strand (“PC strand”) from the People's Republic of China (“PRC”) pursuant to section 751(c) of the Tariff Act of 1930, as amended (the “Act”).¹ As a result of this sunset review, the Department finds that revocation of the antidumping duty order on PC strand from the PRC would be likely to lead to continuation or recurrence of dumping at the levels indicated in the “Final Results of Review” section of this notice.

¹ See Initiation of Five-Year (“Sunset”) Review, 80 FR 24900 (May 1, 2015).

DATES: Effective Date: July 21, 2015.

FOR FURTHER INFORMATION CONTACT: Bob Palmer, AD/CVD Operations, Office V, Enforcement and Compliance, International Trade Administration, U.S. Department of Commerce, 14th Street and Constitution Avenue NW, Washington, DC 20230; telephone: (202) 482-9068.

SUPPLEMENTARY INFORMATION:

Background

On May 1, 2015, the Department published the notice of initiation of the sunset review of the antidumping duty order on PC strand from the PRC. In accordance with 19 CFR 351.218(d)(1)(i), the Department received notices of intent to participate in these sunset reviews from Insteel Wire Products Company, Sumiden Wire Products Corporation, and WMC Steel, LLC (collectively, “Petitioners”) within 15 days after the date of publication of the Initiation Notice and the effective date of the initiation of this sunset review.² Petitioners claimed interested party status under section 771(9)(C) of the Act.

² See Letter to the Secretary from Petitioners, “Five-Year (“Sunset”) Review of the Antidumping Duty Order on Prestressed Concrete Steel Wire Strand From the People's Republic of China—Notice of Intent to Participate” (May 15, 2015).

On June 1, 2015, the Department received an adequate substantive response from Petitioners within the deadline specified in 19 CFR 351.218(d)(3)(i).³ We received no responses from respondent interested parties. As a result, the Department conducted an expedited (120-day) sunset review of the order, pursuant to section 751(c)(3)(B) of the Act and 19 CFR 351.218(e)(1)(ii)(C)(2).

³ See Letter to the Secretary from Petitioners, “Five-Year (“Sunset”) Review of Antidumping Duty Order on Prestressed Concrete Steel Wire Strand from the People's Republic of China—Domestic Industry's Substantive Response” (June 1, 2015).

Analysis of Comments Received

All issues raised in this sunset review are addressed in the “Issues and Decision Memorandum for the Expedited Sunset Review of the Antidumping Duty Order on Prestressed Concrete Steel Wire Strand from the People's Republic of China” from Christian Marsh, Deputy Assistant Secretary for Antidumping and Countervailing Duty Operations, to Paul Piquado, Assistant Secretary for Enforcement and Compliance, dated concurrently with, and hereby adopted by, this notice (“Decision Memorandum”). The issues discussed in the Decision Memorandum include the likelihood of continuation or recurrence of dumping and the magnitude of the margins likely to prevail if the order were to be revoked. Parties may find a complete discussion of all issues raised in the review and the corresponding recommendations in this public memorandum which is on file electronically via Enforcement and Compliance's Antidumping and Countervailing Duty Centralized Electronic Services System (“ACCESS”). Access to ACCESS is available to registered users at http://access.trade.gov and is available to all parties in the Central Records Unit, room B8024 of the main Department of Commerce building. In addition, a complete version of the Decision Memorandum is available directly on the Internet at http://enforcement.trade.gov/frn/index.html. The signed Decision Memorandum and the electronic versions of the Decision Memorandum are identical in content.

Scope of the Order

The merchandise subject to the antidumping duty order is PC strand, produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft² standard set forth in ASTM-A-475. Imports of the subject merchandise are currently classifiable under subheadings 7312.10.3010 and 7312.10.3012 of the Harmonized Tariff Schedule of the United States (“HTSUS”). Although the HTSUS subheadings are provided for convenience and customs purposes, the written description of the scope of this investigation is dispositive.

Final Results of Review

Pursuant to section 752(c) of the Act, we determine that revocation of the antidumping duty order on PC strand from the PRC would be likely to lead to continuation or recurrence of dumping at weighted-average margins up to 193.55 percent.

Administrative Protective Order

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 777(i)(1) of the Act and 19 CFR 351.218.

Dated: July 14, 2015.
Paul Piquado,
Assistant Secretary for Enforcement and Compliance.

[FR Doc. 2015-17836 Filed 7-20-15; 8:45 am]

BILLING CODE 3510-DS-P